EXPORT-IMPORT BANK

Notice of Open Meeting of the Advisory Committee of the Export-Import Bank of the United States (EXIM)

Time and Date: Tuesday, January 21, 2020 from 9:00 a.m. until 2:00 p.m. EST.

Place: 811 Vermont Avenue NW, Room 1126, Washington, DC 20571.

Agenda: Discussion of EXIM policies and programs and comments for inclusion in EXIM's Report to the U.S. Congress on Global Export Credit Competition.

Public Participation: The meeting will be open to public participation, and time will be allotted for oral questions or comments. Members of the public may also file written statement(s) before or after the meeting. If you plan to attend, a photo ID must be presented at the guard's desk as part of the clearance process into the building, you may email external@exim.gov to be placed on an attendee list. If any person wishes auxiliary aids, such as a sign language interpreter, or other special accommodations, please email external@exim.gov no later than 5:00 p.m. EST on Thursday, January 16, 2020.

Members of the Press: For members of the press planning to attend the meeting, a photo ID must be presented at the guard's desk as part of the clearance process into the building. Please email external@exim.gov to be placed on an attendee list.

For Further Information Contact: For further information, contact the Office of External Engagement at external@exim.gov.

Joyce Stone,
Program Specialist, Office of the General Counsel.

[FR Doc. 2020-00248 Filed 1-9-20; 8:45 am]

BILLING CODE 6690-01-P